DEPARTMENT OF HEALTH AND HUMAN SERVICES

National Institutes of Health

National Institute of Mental Health Amended; Notice of Meeting

Notice is hereby given of a change in the meeting of the National Institute of Mental Health Special Emphasis Panel, April 03, 2019, 10:00 a.m. to April 03, 2019, 04:00 p.m., National Institutes of Health, Neuroscience Center Building (NSC), 6001 Executive Boulevard, Rockville, MD, 20852 which was published in the Federal Register on February 20, 2019, 84 FR 5089.

This meeting notice is amended to change the meeting date from April 3, 2019 to April 12, 2019. The meeting is closed to the public.

Dated: March 22, 2019.
Melanie J. Pantoja,
Program Analyst, Office of Federal Advisory Committee Policy.

[FR Doc. 2019-05965 Filed 3-27-19; 8:45 am]

BILLING CODE 4140-01-P